SMALL BUSINESS ADMINISTRATION

Military Reservist Economic Injury Disaster Loans; Interest Rate for First Quarter FY 2012

In accordance with the Code of Federal Regulations 13—Business Credit and Assistance § 123.512, the following interest rate is effective for Military Reservist Economic Injury Disaster Loans approved on or after October 21, 2011.

Military Reservist Loan Program—4.000%.

Dated: October 19, 2011.
James E. Rivera,
Associate Administrator for Disaster Assistance.

[FR Doc. 2011-27838 Filed 10-26-11; 8:45 am]

BILLING CODE 8025-01-P